DEPARTMENT OF THE INTERIOR

Fish and Wildlife Service

Extension of Comment Period on the Draft Recovery Plan for Coastal Plants of the Northern San Francisco Peninsula

AGENCY: U.S. Fish and Wildlife Service, Interior.

ACTION: Extension of comment period.

SUMMARY: We, the U.S. Fish and Wildlife Service (Service), announce the extension of the comment period for the public review of the Draft Recovery Plan for Coastal Plants of the Northern San Francisco Peninsula for an additional 60 days from the date of publication of this notice in the Federal Register. The original comment period was to close on March 4, 2002. We are extending the comment period for an additional 60 days to allow additional time for public review of this draft recovery plan that includes the endangered San Francisco lessingia (Lessingia germanorum) and Raven's manzanita (Arctostaphylos hookeri ssp. ravenii). The portion of the plan dealing with Raven's manzanita is a revision of the 1984 Raven's Manzanita Recovery Plan. Additional species of concern that will benefit from recovery actions taken for these plants are also discussed in the draft recovery plan. The draft plan includes recovery criteria and measures for San Francisco lessingia and Raven's manzanita.

DATES: Comments on the draft recovery plan must be received on or before May 6, 2002.

ADDRESSES: Copies of the draft recovery plan are available for inspection, by appointment, during normal business hours at the following location: U.S. Fish and Wildlife Service, Sacramento Fish and Wildlife Office, 2800 Cottage Way, W-2605, Sacramento, California (telephone (916) 414-6600); and U.S. Fish and Wildlife Service, Regional Office, Ecological Services, 911 N.E. 11th Ave., Eastside Federal Complex, Portland Oregon 97232-4181 (telephone (503) 231-6131). Requests for copies of the draft recovery plan and written comments and materials regarding this plan should be addressed to Wayne S. White, Field Supervisor, Ecological Services, at the above Sacramento address.

FOR FURTHER INFORMATION CONTACT: Jan C. Knight, Chief, Endangered Species Division, Sacramento Fish and Wildlife Office, 2800 Cottage Way, Room W-2605, Sacramento, California 95825. Phone: (916) 414-6600.

SUPPLEMENTARY INFORMATION:

Background

Restoring endangered or threatened animals and plants to the point where they are again secure, self-sustaining members of their ecosystems is a primary goal of the Service's endangered species program. To help guide the recovery effort, the Service is working to prepare recovery plans for most of the listed species native to the United States. Recovery plans describe actions considered necessary for the conservation of the species, establish criteria for downlisting or delisting listed species, and estimate time and cost for implementing the recovery measures needed.

The Endangered Species Act of 1973, as amended (16 U.S.C. 1531 et seq.) (Act), requires the development of recovery plans for listed species unless such a plan would not promote the conservation of a particular species. Section 4(f) of the Act as amended in 1988 requires that public notice and an opportunity for public review and comment be provided during recovery plan development. The Service will consider information presented during the public comment period prior to approval of each new or revised recovery plan. Substantive technical comments may result in changes to the plan. Substantive comments regarding recovery plan implementation may not necessarily result in changes to the recovery plan, but will be forwarded to appropriate Federal or other entities so that they can take these comments into account during the course of implementing recovery actions. Individual responses to comments will not be provided.

San Francisco lessingia and Raven's manzanita are restricted to the San Francisco peninsula in San Francisco County, California. San Francisco lessingia, an annual herb in the aster family, is restricted to coastal sand deposits. Raven's manzanita is a rare evergreen creeping shrub in the heath family which was historically restricted to few scattered serpentine outcrops. Habitat loss, adverse alteration of ecological processes, and invasion of non-native plant species threaten San Francisco lessingia. Raven's manzanita has also been threatened by habitat loss; primary current threats include invasion of non-native vegetation and fungal pathogens. The draft plan also makes reference to several other federally listed species which are ecologically associated with San Francisco lessingia and Raven's manzanita, but which are treated comprehensively in other recovery plans. These species are beach layia (Layia carnosa), Presidio clarkia (Clarkia franciscana), Marin dwarf-flax (Hesperolinon congestum), Myrtle's silverspot butterfly (Speyere zerene myrtleae), and bay checkerspot butterfly (Euphydryas editha bayensis). In addition, 16 plant species of concern and 17 plant species of local or regional conservation significance are considered in this recovery plan.

The draft recovery plan stresses re-establishing dynamic, persistent populations of San Francisco lessingia and Raven's manzanita within plant communities which have been restored to be as “self-sustaining” as possible within urban wildland reserves. Specific recovery actions for San Francisco lessingia focus on the restoration and management of large, dynamic mosaics of coastal dune areas supporting shifting populations within the species' narrow historic range. Recovery of Raven's manzanita may include, but may not be limited to, the strategy of the 1984 Raven's Manzanita Recovery Plan, which emphasized the stabilization of the single remaining genetic individual. The draft plan also recommends re-establishing multiple sexually reproducing populations of Raven's manzanita in association with its historically associated species of local serpentine outcrops. The objectives of this recovery plan are to delist San Francisco lessingia and to downlist Raven's manzanita through implementation of a variety of recovery measures including (1) Protection and restoration of a series of ecological reserves (often with mixed recreational and conservation park land uses); (2) promotion of population increases of San Francisco lessingia and Raven's manzanita within these sites, or reintroducion of them to restored sites; (3) management of protected sites, especially the extensive eradication or suppression of invasive dominant non-native vegetation; (4) research; and (5) public participation, outreach and education.

Public Comments Solicited

The Service solicits written comments on the recovery plan described. All comments received by the date specified above will be considered prior to approval of this plan.

Authority: The authority for this action is section 4(f) of the Endangered Species Act, 16 U.S.C. 1533(f).

Dated: March 4, 2002.
Duane K. McDermond,
Deputy Manager, California/Nevada Operations Office, Sacramento, California.

[FR Doc. 02-5689 Filed 3-8-02; 8:45 am]

BILLING CODE 4310-55-P